OFFICE OF SCIENCE AND TECHNOLOGY POLICY

Meeting of the President's Committee of Advisors on Science and Technology

ACTION: Notice of meeting cancellation.

SUMMARY: On November 16, 2000, 65 FR 69308, the Office of Science and Technology Policy (OSTP) published a notice to announce a meeting of the President's Committee of Advisors on Science and Technology (PCAST) to be held on December 1, 2000. This notice is to announce that the meeting is cancelled due to conflicts in members' schedules.

Barbara Ann Ferguson,
Assistant Director, Budget and Administration, Office of Science and Technology Policy.

[FR Doc. 00-30052 Filed 11-24-00; 8:45 am]

BILLING CODE 3170-01-M